DEPARTMENT OF JUSTICE

Notice of Lodging of Consent Decree Under the Clean Water Act 33 U.S.C. 1251 to 1387

Notice is hereby given that on July 18, 2002, a proposed Consent Decree in United States v. Asarco Incorporated, Civil Action No. 98-49-H-CCL was lodged with the United States District Court for the District of Montana, Helena Division.

In this action the United States alleges under section 309(b) and (d) of the Clean Water Act (the “Act”), 33 U.S.C. 1319(b) and (d), that Asarco violated certain conditions of the Act's categorical pretreatment program which regulates industrial users who discharge to publicly owned treatment works (“POTWs”). Specifically, the United States alleged that from May 1991 to December 1997, Asarco discharged plant process wastewater from its smelting facility to the East Helena, Montana POTW in excess of monthly average effluent limits for lead and zinc applicable to primary lead processing plants under 40 CFR 421.75. The Complaint also alleged that beginning in November 1991 and continuing through November 1994 Asarco violated the Act's reporting requirements by failing to include in Asarco's semi-annual Periodic Reports on Continuing Compliance data describing the nature and concentration of pollutants in Asarco's discharge to the POTW as required under 40 CFR 403.12. The proposed Consent Decree resolves all allegations raised in the United States Complaint against Asarco in exchange for a civil penalty of $100,000.00 paid over two years, the performance of several Supplemental Environmental Projects (“SEPs”) estimated to be worth in total $169,852.00, and other consideration worth $15,480.00.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Asarco, Inc., D.J. Ref. 90-5-1-1-4323/1.

The proposed consent decree may be examined at U.S. EPA Region 8, 999 18th Street, Suite 500, Denver Colorado, 80202 and through the Project Coordinator, United States Environmental Protection Agency, Region 8, Federal Office Bldg. 10 West 15th Street, Suite 3200 Helena, Montana 59626. A copy of the consent decree may also be obtained by mail from the Consent Decree Library, P.O. Box 7611, U.S. Department of Justice, Washington, DC 20044-7611, or by faxing a request to Tonia Fleetwood, fax no. (202) 514-0097, phone confirmation no. (202) 514-1547. In requesting a copy, please enclose a check in the amount of $6.75 (25 cents per page reproduction cost) payable to the U.S. Treasury. In requesting a copy exclusive of exhibits and defendants' signatures, please enclose a check in the amount of $5.75 (25 cents per page reproduction cost) payable to the U.S. Treasury. The check should refer to United States v. Asarco Incorporated., Civil Action No. 98-49-H-CCL, (D. Mont.).

Benjamin Fisherow,
Deputy Section Chief, Environmental Enforcement Section, Environment and Natural Resources Division.

[FR Doc. 02-19383 Filed 7-31-02; 8:45 am]

BILLING CODE 4410-15-M